DEPARTMENT OF COMMERCE

National Oceanic and Atmospheric Administration

[I.D. 040407B]

Marine Mammals; File No. 877-1903

AGENCY: National Marine Fisheries Service (NMFS), National Oceanic and Atmospheric Administration (NOAA), Commerce.

ACTION: Notice; denial of permit.

SUMMARY: Notice is hereby given that a request for a scientific research permit submitted by Daniela Maldini, Okeanis, PO Box 818, Pacific Grove, CA 93950 has been denied.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Jaclyn Daly or Amy Hapeman, (301)713-2289.

SUPPLEMENTARY INFORMATION: On February 5, 2007, a notice was published in the Federal Register (72 FR 5273) that an application had been filed by the above named individual. The requested permit has been denied subject to the provisions of the Marine Mammal Protection Act of 1972 (16 U.S.C. 1361 et seq.) and because the application did not meet permit issuance criteria set forth in the regulations governing the taking and importing of marine mammals (50 CFR part 216).

The applicant requested a 5-year permit to biopsy bottlenose dolphins (Tursiops truncatus) in waters off California, specifically Monterey Bay and the Santa Monica Basin. The proposed research objectives were to investigate stock structure, demographics, and contaminant loads of coastal and offshore populations.

Dated: April 4, 2007.
P. Michael Payne,
Chief, Permits, Conservation and Education Division, Office of Protected Resources, National Marine Fisheries Service.

[FR Doc. E7-6875 Filed 4-10-07; 8:45 am]

BILLING CODE 3510-22-S